NATIONAL AERONAUTICS AND SPACE ADMINISTRATION

[Notice 18-45]

Notice of Intent To Grant Partially Exclusive Patent License; Correction

AGENCY: National Aeronautics and Space Administration.

ACTION: Notice; correction.

SUMMARY: NASA published a document in the Federal Register of May 1, 2018, concerning its intent to grant a partially exclusive patent license to Vigilant Aerospace Systems, Inc. The document contained an incorrect phone number.

DATES: The correction is valid May 9, 2018.

SUPPLEMENTARY INFORMATION:

Correction

In the Federal Register of May 1, 2018, in FR Doc. 18-09183, on page 19116, in the first column, correct the FOR FURTHER INFORMATION CONTACT caption to read:

FOR FURTHER INFORMATION CONTACT: Mark Homer, Patent Counsel, NASA Management Office of Chief Counsel, Jet Propulsion Laboratory, 4800 Oak Grove Drive, M/S 180-800C Pasadena, CA 91109. Phone (818) 354-7770. Facsimile (818) 393-2607.

Deborah F. Bloxon,
Federal Liaison Officer.

[FR Doc. 2018-09790 Filed 5-8-18; 8:45 am]

BILLING CODE 7510-13-P